ENVIRONMENTAL PROTECTION AGENCY

[FRL-7878-8]

Gulf of Mexico Program Citizens Advisory Committee Meeting

AGENCY: Environmental Protection Agency (EPA).

ACTION: Notice of meeting.

SUMMARY: Under the Federal Advisory Committee Act (Public Law 92-463), EPA gives notice of a meeting of the Gulf of Mexico Program (GMP) Citizens Advisory Committee (CAC).

DATES: The meeting will be held on Wednesday, March 23, 2005, from 1 p.m. to 5 p.m.; Thursday March 24, 2005, from 8:30 a.m. to 1:15 p.m.

ADDRESSES: The meeting will be held at the Scruggs Center, 4836 Main Street, Moss Point, MS 39563, (228) 475-4829.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Presentation on Present and Future Perspectives; Field Trip on Pascagoula River; Audubon Society Presentation on Wetland Regulations and Permitting; Roles and Responsibilities of Gulf of Mexico Program Office; Discussion of Citizens Advisory Committee Participation.

The meeting is open to the public.

Dated: February 22, 2005.
Gloria D. Car,
Designated Federal Officer.

[FR Doc. 05-3796 Filed 2-25-05; 8:45 am]

BILLING CODE 6560-50-P